ENVIRONMENTAL PROTECTION AGENCY

40 CFR Part 745

[EPA-HQ-OPPT-2005-0049; FRL-9927-40]

Lead; Renovation, Repair and Painting Program; Lead Test Kit Stakeholder Meeting; Notice of Public Meeting

AGENCY: Environmental Protection Agency (EPA).

ACTION: Notice of meeting.

SUMMARY: On April 22, 2008, EPA published the Lead Renovation, Repair and Painting (RRP) rule, which established performance recognition criteria for lead test kits for use as an option to determine if regulated lead-based paint is not present in target housing and child-occupied facilities. The use of an EPA-recognized lead test kit, when used by a trained professional, can reliably determine that regulated lead-based paint is not present by virtue of a negative result. The RRP rule also established negative-response and positive-response criteria outlined in the CFR for lead test kits recognized by EPA. This document announces EPA's plan to hold a meeting for interested stakeholders and the public on Thursday, June 4, 2015. At the meeting, EPA is seeking information related to: The existing market for lead test kits as referenced in the 2008 RRP rule; the development or modification of lead test kit(s) that may meet EPA's positive-response criterion (in addition to the negative-response criterion); and other alternatives for lead-based paint field testing.

DATES: The meeting will be held on Thursday, June 4, 2015 from 10 a.m. to 12 p.m.

Requests to attend the meeting should be sent to the Agency's lead information Contact Us form at http://www2.epa.gov/lead/forms/contact-us or the technical information points of contact under FOR FURTHER INFORMATION CONTACT. Upon request, Web and telephone conferencing information will be provided for those who wish to attend the meeting remotely. RSVP responses confirming attendance to the meeting either in person or remotely should be sent to the Agency's lead information Contact Us form at http://www2.epa.gov/lead/forms/contact-us or the technical persons listed under FOR FURTHER INFORMATION CONTACT on or before May 26, 2015. Requests to share information on the related topics at the meeting should be sent to the Agency's lead information Contact Us form at http://www2.epa.gov/lead/forms/contact-us or the technical persons listed under FOR FURTHER INFORMATION CONTACT on or before May 26, 2015. Additionally, registered participants who wish to provide responses to the requested lead test kit topics during the meeting should notify the Agency via EPA's lead information Contact Us form at http://www2.epa.gov/lead/forms/contact-us or the technical persons listed under FOR FURTHER INFORMATION CONTACT on or before May 26, 2015.

To request accommodation of a disability, please contact the technical person listed under FOR FURTHER INFORMATION CONTACT, preferably by May 26, 2015, to give EPA as much time as possible to process your request.

ADDRESSES: The meeting will be held at EPA William Jefferson Clinton East Building, 1201 Constitution Ave. NW., Washington, DC 20004.

Meeting participants and other interested parties who wish to respond in writing to the requested lead test kit topics outlined above, as well as the forthcoming Information Docket, may submit written materials identified by docket identification (ID) number EPA-HQ-OPPT-2005-0049, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, are available at http://www.epa.gov/dockets. The docket for this action will remain open until July 6, 2015.

FOR FURTHER INFORMATION CONTACT: For technical information contact: Christina Wadlington, National Program Chemicals Division (7404M), Office of Pollution Prevention and Toxics, Environmental Protection Agency, 1200 Pennsylvania Ave. NW., Washington, DC 20460; telephone number: (202) 566-1859; email address: wadlington.christina@epa.gov or Toiya Goodlow, National Program Chemicals Division (7404M), Office of Pollution Prevention and Toxics, Environmental Protection Agency, 1200 Pennsylvania Ave. NW., Washington, DC 20460; telephone number: (202) 566-2305; email address: goodlow.toiya@epa.gov.

For general information contact: The National Lead Information Center, ABVI-Goodwill, 422 South Clinton Ave., Rochester, NY 14620; telephone number: 1-800-424 -LEAD (5323); online information request form: http://www2.epa.gov/lead/forms/lead-hotline-national-lead-information-center.

SUPPLEMENTARY INFORMATION:

I. General Information

A. Does this action apply to me?

This document is directed to stakeholders that develop, manufacture and/or sell lead test kits or other lead-based paint field testing instruments. You may be potentially affected by this action if you manufacture or sell lead test kits, or if you use lead test kits to determine if lead-safe work practices are required under the RRP rule to perform renovations for compensation in target housing or child-occupied facilities. Examples of child-occupied facilities are day-care centers, preschools, and kindergarten classrooms.

B. How can I get copies of this document and other related information?

The docket for this action, identified by docket ID number EPA-HQ-OPPT-2005-0049, is available at http://www.regulations.gov or at the Office of Pollution Prevention and Toxics Docket (OPPT Docket), Environmental Protection Agency Docket Center (EPA/DC), EPA William Jefferson Clinton West Building, Rm. 3334, 1301 Constitution Ave. NW., Washington, DC 20004. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets. EPA will provide further information regarding topics to be discussed at the meeting in an Information Document to registered participants. That information also will be posted on www2.epa.gov/lead and placed in the docket for this action.

C. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify this document by docket ID number and other identifying information (subject heading, Federal Register date and page number).

ii. Follow directions. Follow the detailed instructions as provided under ADDRESSES. Respond to specific questions posed by the Agency.

iii. Explain why you agree or disagree; suggest alternatives.

iv. Describe any assumptions and provide any technical information and/or data that you used.

v. If you estimate potential costs or burdens, explain how you arrived at your estimate in sufficient detail to allow for it to be reproduced by the Agency and others.

vi. Provide specific examples to illustrate your concerns and suggest alternatives.

vii. Explain your views as clearly as possible, avoiding the use of profanity or personal threats.

viii. Make sure to submit your comments by the comment period deadline identified in this document.

II. Background

In the Federal Register of April 22, 2008 (73 FR 21692) (FRL-8355-7), EPA published the Lead-Based Paint Renovation, Repair and Painting rule, which requires contractors to use lead-safe work practices during renovation, repair, and painting activities that disturb lead-based paint in target housing and child-occupied facilities built before 1978 unless a determination can be made that no lead-based paint would be disturbed during the renovation or repair. The use of an EPA-recognized lead test kit, when used by a trained professional, can reliably determine that regulated lead-based paint is not present by virtue of a negative result. The federal standards for lead-based paint in target housing and child-occupied facilities is a lead content in paint that equals or exceeds a level of 1.0 milligram per square centimeter (mg/cm²) or 0.5 percent by weight. If regulated lead-based paint is not present, there is no requirement to employ lead-safe work practices under the RRP rule.

The RRP rule established negative-response and positive-response criteria outlined in 40 CFR 745.88(c) for lead test kits recognized by EPA. Lead test kits recognized before September 1, 2010 must meet only the negative-response criterion outlined in 40 CFR 745.88(c)(1). The negative-response criterion states that for paint containing lead at or above the regulated level, 1.0 mg/cm² or 0.5 percent by weight, a demonstrated probability (with 95% confidence) of a negative response less than or equal to 5 percent of the time must be met. The recognition of kits that meet only this criterion will last until EPA publicizes its recognition of the first test kit that meets both of the criteria outlined in the rule.

Lead test kits recognized after September 1, 2010 must meet both the negative-response and positive-response criteria outlined in 40 CFR 745.88(c)(1)-(2). The positive-response criterion states that for paint containing lead below the regulated level, 1.0 mg/cm² or 0.5% by weight, a demonstrated probability (with 95% confidence) of a positive response less than or equal to 10% of the time must be met. Qualitatively speaking, lead test kits recognized by EPA should also serve as a quick, inexpensive, reliable, and easy to perform option for lead-based paint testing in the field.

Despite the EPA's commitment of resources to this effort, to date no test kit has met both of the performance criteria outlined in the RRP rule. However, there are two EPA-recognized test kits commercially available nationwide that meet the false-negative criterion and continue to be recognized by EPA. Therefore, in an effort to understand the current state of the science for lead test kits and lead-based paint field testing alternatives, as well as the existing market and potential availability of additional test kits, EPA is soliciting input from relevant stakeholders. EPA is convening a meeting and webinar for interested stakeholders and the public on Thursday, June 4, 2015 to seek information related to: (1) The existing market for lead test kits as referenced in the 2008 RRP rule; (2) the development or modification of lead test kit(s) that may meet EPA's positive-response criterion (in addition to the negative-response criterion); and (3) other alternatives for lead-based paint field testing. EPA will provide further information regarding topics to be discussed at the meeting in an Information Document to be posted on www2.epa.gov/lead and placed in the docket for this action. Meeting participants and other interested parties who wish to respond in writing to the requested lead test kit topics outlined above, as well as the forthcoming Information Docket, may submit written materials to the docket until July 6, 2015.

III. References

As indicated under ADDRESSES, a docket has been established for this rulemaking under docket ID number EPA-HQ-OPPT-2005-0049. The docket includes this document and other information.

EPA. Lead; Renovation, Repair, and Painting Program; Final Rule. Federal Register, April 22, 2008 (73 FR 21692) (FRL-8355-7).

Authority: 15 U.S.C. 2601 et seq.

Dated: May 8, 2015.
James Jones,
Assistant Administrator, Office of Chemical Safety and Pollution Prevention.

[FR Doc. 2015-11669 Filed 5-13-15; 8:45 am]

BILLING CODE 6560-50-P